DEPARTMENT OF THE INTERIOR

Bureau of Indian Affairs

Advisory Board for Exceptional Children

AGENCY: Bureau of Indian Affairs, Interior.

ACTION: Notice of meeting.

SUMMARY: The Bureau of Indian Education (BIE) is announcing that the Advisory Board for Exceptional Children (Advisory Board) will hold its next meeting in Albuquerque, New Mexico. The purpose of the meeting is to meet the mandates of the Individuals with Disabilities Education Act of 2004 (IDEA) for Indian children with disabilities.

DATES: The Advisory Board will meet on Thursday, March 29, 2012, from 8:30 a.m. to 4:30 p.m. and Friday, March 30, 2012, from 8:30 a.m. to 4:30 p.m. Mountain Time. Orientation for new members will be held on Wednesday, March 28, 2012, from 1 p.m. to 4 p.m. Mountain Time.

ADDRESSES: The meeting and orientation will be held at the Manuel Lujan, Jr. Indian Affairs Building, 1011 Indian School Road North West, Albuquerque, New Mexico 87104; telephone number (505) 563-5383.

FOR FURTHER INFORMATION CONTACT: Sue Bement, Designated Federal Officer, Bureau of Indian Education, Albuquerque Service Center, Division of Performance and Accountability, 1011 Indian School Road NW., Suite 332, Albuquerque, NM 87104; telephone number (505) 563-5274.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary—Indian Affairs, on the needs of Indian children with disabilities. The meetings are open to the public.

The following items will be on the agenda:

• Introduction of Advisory Board members.

• Introduction of Appointed Advisory Board Chair.

• Appointment of Advisory Board Vice Chair.

• Appointment of Advisory Board Secretary.

• Report from Gloria Yepa, Supervisory Education Specialist, BIE, Division of Performance and Accountability.

• Report from BIE Director's Office.

• Report from Stan Holder, Acting Associate Deputy Director, BIE, Division of Performance and Accountability.

• Board selection of Priority Topics.

• Public Comment (via conference call, March 29, 2012, meeting only*).

• BIE Advisory Board-Advice and Recommendations.

* During the March 29, 2012, meeting, time has been set aside for public comment via conference call from 1:30—2 p.m. Mountain Time. The call-in information is: Conference Number 1-888-417-0376, Passcode 1509140.

Dated: March 9, 2012.
Larry Echo Hawk,
Assistant Secretary—Indian Affairs.

[FR Doc. 2012-6566 Filed 3-16-12; 8:45 am]

BILLING CODE 4310-6W-P